DEPARTMENT OF TRANSPORTATION

Federal Aviation Administration

Twentieth Meeting: RTCA Special Committee 203, Unmanned Aircraft Systems

AGENCY: Federal Aviation Administration (FAA), U.S. Department of Transportation (DOT).

ACTION: Notice of RTCA Special Committee 203, Unmanned Aircraft Systems.

SUMMARY: The FAA is issuing this notice to advise the public of the twentieth meeting of RTCA Special Committee 203, Unmanned Aircraft Systems.

DATES: The meeting will be held February 21-23, 2012, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 203, Unmanned Aircraft Systems. The agenda will include the following:

February 21, 2012

• Welcome, Introductions, and Administrative Remarks

• Review and approve summary from nineteenth plenary meeting

• Chairperson/Leadership Updates

• Designated Federal Official (DFO) Update

• Work Plan Status

• Workgroup Updates

• Plenary Adjourns

• Workgroup Breakout Sessions

• Systems Engineering Workgroup

• Command & Control Workgroup

• Sense & Avoid Workgroup

• Safety Workgroup

February 22, 2012

• Workgroup Break-out sessions

February 23, 2012

• Workgroup Break-out sessions

• 1 p.m. Plenary session

• Workgroup Back Briefs

• Other Business

• Closing Plenary Session

• Other Business

• Date, Place, and Time for Plenary 21

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 12, 2012.
John Raper,
Manager, Business Operations Branch, Federal Aviation Administration.

[FR Doc. 2012-1049 Filed 1-19-12; 8:45 am]

BILLING CODE 4910-13-P